DEPARTMENT OF ENERGY

Federal Energy Regulatory Commission

Combined Notice of Filings #2

Take notice that the Commission received the following electric corporate filings:

Docket Numbers: EC17-37-000.

Applicants: Westar Energy, Inc.

Description: Supplement to November 18, 2016 Application of Westar Energy, Inc. for Authorization for Consolidation of Jurisdictional Facilities, et al.

Filed Date: 12/21/16.

Accession Number: 20161221-5461.

Comments Due: 5 p.m. ET 12/28/16.

Take notice that the Commission received the following electric rate filings:

Docket Numbers: ER11-3376-003; ER11-3377-003; ER11-3378-003.

Applicants: North Hurlburt Wind, LLC, Horseshoe Bend Wind, LLC, South Hurlburt Wind, LLC.

Description: Triennial Report for Northwest Region of North Hurlburt Wind, LLC, et. al.

Filed Date: 12/22/16.

Accession Number: 20161222-5571.

Comments Due: 5 p.m. ET 2/21/17.

Docket Numbers: ER14-225-004.

Applicants: New Brunswick Energy Marketing Corporation.

Description: Triennial Market Power Update for the Northeast Region of New Brunswick Energy Marketing Corporation.

Filed Date: 12/22/16.

Accession Number: 20161222-5577.

Comments Due: 5 p.m. ET 2/21/17.

Docket Numbers: ER17-238-001.

Applicants: Southwestern Public Service Company.

Description: Tariff Amendment: SAP Ministerial_Amend to be effective 4/16/2016.

Filed Date: 12/23/16.

Accession Number: 20161223-5102.

Comments Due: 5 p.m. ET 1/13/17.

Docket Numbers: ER17-267-001.

Applicants: Southwestern Public Service Company.

Description: Tariff Amendment: Tri County Formula Rate_Amend to be effective 1/1/2017.

Filed Date: 12/23/16.

Accession Number: 20161223-5103.

Comments Due: 5 p.m. ET 1/13/17.

Docket Numbers: ER17-478-001.

Applicants: Mankato Energy Center, LLC.

Description: Supplement to December 15, 2016 Mankato Energy Center, LLC tariff filing.

Filed Date: 12/22/16.

Accession Number: 20161222-5572.

Comments Due: 5 p.m. ET 1/12/17.

Docket Numbers: ER17-647-000.

Applicants: Emera Energy Services Subsidiary No. 11.

Description: § 205(d) Rate Filing: Tariff Amendment to be effective 2/22/2017.

Filed Date: 12/23/16.

Accession Number: 20161223-5141.

Comments Due: 5 p.m. ET 1/13/17.

Docket Numbers: ER17-648-000.

Applicants: Emera Energy Services Subsidiary No. 12.

Description: § 205(d) Rate Filing: Tariff Amendment to be effective 2/22/2017.

Filed Date: 12/23/16.

Accession Number: 20161223-5142.

Comments Due: 5 p.m. ET 1/13/17.

Docket Numbers: ER17-649-000.

Applicants: Emera Energy Services Subsidiary No. 13.

Description: § 205(d) Rate Filing: Tariff Amendment to be effective 2/22/2017.

Filed Date: 12/23/16.

Accession Number: 20161223-5143.

Comments Due: 5 p.m. ET 1/13/17.

Docket Numbers: ER17-650-000.

Applicants: Emera Energy Services Subsidiary No. 14.

Description: § 205(d) Rate Filing: Tariff Amendment to be effective 2/22/2017.

Filed Date: 12/23/16.

Accession Number: 20161223-5144.

Comments Due: 5 p.m. ET 1/13/17.

Docket Numbers: ER17-651-000.

Applicants: Emera Energy Services Subsidiary No. 15.

Description: § 205(d) Rate Filing: Tariff Amendment to be effective 2/22/2017.

Filed Date: 12/23/16.

Accession Number: 20161223-5145.

Comments Due: 5 p.m. ET 1/13/17.

Docket Numbers: ER17-652-000.

Applicants: Lightstone Marketing LLC.

Description: Baseline eTariff Filing: Lightstone Marketing LLC MBR Application to be effective 1/10/2017.

Filed Date: 12/23/16.

Accession Number: 20161223-5158.

Comments Due: 5 p.m. ET 1/13/17.

Docket Numbers: ER17-653-000.

Applicants: Arizona Public Service Company.

Description: Tariff Cancellation: Cancellation of Rate Schedule No. 272 to be effective 2/22/2017.

Filed Date: 12/23/16.

Accession Number: 20161223-5166.

Comments Due: 5 p.m. ET 1/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2016.
Nathaniel J. Davis, Sr.,
Deputy Secretary.

[FR Doc. 2016-31658 Filed 12-29-16; 8:45 am]

BILLING CODE 6717-01-P